DEPARTMENT OF HEALTH AND HUMAN SERVICES

National Institutes of Health

Proposed collection; Comment Request; Ethical Issues Associated With Nurse Practitioner and Physician Assistant Practice: A Comparative Analysis

SUMMARY: In compliance with the requirement of section 3506(c)(2)(A) of the Paperwork Reduction Act of 1995, for opportunity for public comment on proposed data collection projects, the Department of Clinical Bioethics, the National Institutes of Health (NIH) will publish periodic summaries of proposed projects to be submitted to the Office of Management and Budget (OMB) for review and approval.

PROPOSED COLLECTION: Title: Ethical Issues Associated with Nurse Practitioner and Physician Assistant Practice: A Comparative Analysis. Type of Information Collection Request: NEW. Need and Use of Information Collection: The purposes of the study are (1) to examine whether the current practice environment has created ethical concerns/conflict for Nurse Practitioners and Physician Assistants in the provision of patient care; (2) to explore relationships between selected individual, organizational, and state regulatory factors and ethical conflict in practice and the perceived delivery of quality care; and (3) to examine the perceived level of ethics preparedness and confidence in ethics decision-making. The findings will provide valuable information concerning: (1) The importance of ethics and ethical factors from the perspective of different professional groups; and (2) ethics educational needs of Nurse Practitioners and Physician Assistants. Frequency of Response: Once. Affected Public: Individuals; Academic Institutions; Business or other for-profit; Not-for-profit organizations. Type of Respondents: Nurse Practitioners and Physician Assistants. The annual report burden is as follows: Estimated Number of Respondents: 1,400; Estimated Number of Responses per Respondent: 1; Average Burden Hours Per Response: .33; and Estimated Total Annual Burden Hours Requested: 462. The annualized cost to respondents is estimated at $33,600. There are no Capital Costs to report. There are no Operating or Maintenance Costs to report.

REQUEST FOR COMMENTS: Written comments and/or suggestions from the public and affected agencies are invited on one or more of the following points: (1) Whether the proposed collection is information is necessary for the proper performance of the function of the agency, including whether the information will have practical utility; (2) the accuracy of the agency's estimate of the burden of the proposed collection of information, including the validity of the methodology and assumptions used; (3) ways to enhance the quality, utility, and clarity of the information to be collected; and (4) minimize the burden of information on those who are to respond, including the use of appropriate automated, electronic, mechanical, or other technological collection techniques or other forms of information technology.

FOR FURTHER INFORMATION CONTACT: To request more information on the proposed project or to obtain a copy of the data collection plans and instruments, contact Connie Ulrich, RN, PhD, Principal Investigator, Department of Clinical Bioethics, Warren G. Magnuson Clinical Center, Building 10, Room 1C118, Bethesda, MD 20892, or call non-toll-free number (301) 451-8338 or E-mail your request, including your address to: culrich@cc.nih.gov.

COMMENTS DUE DATE: Comments regarding this information collection are best assured of having their full effect if received within 60-days of the date of this publication.

Dated: January 14, 2002.
David K. Henderson,
Deputy Director, Warren G. Magnuson Clinical Center, National Institutes of Health.
Ezekiel Emanuel,
Director, Department of Clinical Bioethics, Warren G. Magnuson Clinical Center, National Institutes of Health.

[FR Doc. 02-1435 Filed 1-18-02; 8:45 am]

BILLING CODE 4140-01-M